ENVIRONMENTAL PROTECTION AGENCY

[EPA-HQ-OLEM-2024-0477; FRL 12345-01-OLEM]

Agency Information Collection Activities; Proposed Information Collection Request; Comment Request; Brownfields Program—Accomplishment Reporting in Assessment, Cleanup and Redevelopment Exchange System (ACRES) (Revision)

AGENCY: Environmental Protection Agency (EPA).

ACTION: Notice.

SUMMARY: The Environmental Protection Agency (EPA) is planning to submit an information collection request (ICR), Brownfields Program—Accomplishment Reporting in Assessment, Cleanup and Redevelopment Exchange System (ACRES) (EPA ICR Number 2104.10, OMB Control Number 2050-0192) to the Office of Management and Budget (OMB) for review and approval in accordance with the Paperwork Reduction Act. Before doing so, EPA is soliciting public comments on specific aspects of the proposed information collection as described below. This is a proposed extension of the ICR, which is currently approved through March 31, 2026. This notice allows for 60 days for public comments.

DATES: Comments must be submitted on or before December 24, 2024.

ADDRESSES: Submit your comments, referencing Docket ID Number EPA-HQ-OLEM-2024-0477, to EPA online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: Nicole Wireman, Office of Brownfields and Land Revitalization, (5105T), Environmental Protection Agency, 1200 Pennsylvania Ave. NW, Washington, DC 20460; telephone number: (202) 566-2649; email address: wireman.nicole@epa.gov.

SUPPLEMENTARY INFORMATION: This is a proposed extension of the ICR, which is currently approved through March 31, 2026. An agency may not conduct or sponsor and a person is not required to respond to a collection of information unless it displays a currently valid OMB control number.

This notice allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. EPA will consider the comments received and amend the ICR as appropriate. The final ICR package will then be submitted to OMB for review and approval. At that time, EPA will issue another Federal Register notice to announce the submission of the ICR to OMB and the opportunity to submit additional comments to OMB.

Abstract: This ICR covers the collection of information from those organizations that receive cooperative agreements, contracts, and Targeted Brownfields Assessment (TBA) funds from EPA under the authority of the section 104(k) of the Comprehensive Environmental Response, Compensation, and Liability Act (CERCLA) as amended by the Brownfields Utilization, Investment, and Local Development (BUILD) Act (Pub. L. 115-141). CERCLA 104(k), as amended, authorizes EPA to award grants or cooperative agreements and contract funding to states, tribes, local governments, other eligible entities, and nonprofit organizations to support the assessment and cleanup of brownfields sites. Under section 101(39) of CERCLA, a brownfields site means real property, the expansion, redevelopment, or reuse of which may be complicated by the presence or potential presence of a hazardous substance, pollutant, or contaminant. Cooperative agreement recipients (“recipients”) have general reporting and record keeping requirements as a condition of their cooperative agreement that result in burden. A portion of this reporting and record keeping burden is authorized under 2 CFR part 1500 and identified in the EPA's general grants ICR (OMB Control Number 2030-0020). EPA requires Brownfields program recipients to maintain and report additional information to EPA on the uses and accomplishments associated with funded brownfields activities. EPA has expanded programmatic reporting requirements to include TBA contractors and technical assistance contractors. EPA will use several forms to assist recipients and contractors in reporting the information and to ensure consistency of the information collected. EPA uses this information to meet Federal stewardship responsibilities to manage and track how program funds are being spent, to evaluate the performance of the Brownfields Cleanup and Land Revitalization Program, to meet the Agency's reporting requirements under the Government Performance and Results Act, and to report to Congress and other program stakeholders on the status and accomplishments of the program.

Form Numbers: EPA ICR No. 2104.10, OMB Control No. 2050-0192.

Respondents/affected entities: State/local/tribal governments; Non-Profits; Contractors.

Respondent's obligation to respond: Required to obtain or Retain Benefits (2 CFR part 1500).

Estimated number of respondents: 2,697 (total).

Frequency of response: Varies but generally bi-annual for subtitle CERCLA 128 recipients and quarterly for CERCLA 104(k) recipients.

Total estimated burden: 11,548 hours (per year). Burden is defined at 5 CFR 1320.03(b).

Total estimated cost: $1,622,953 (per year), which includes $0 annualized capital or operation & maintenance costs.

Changes in the Estimates: There is an increase of 7,740 hours in the total estimated respondent burden compared with the ICR currently approved by OMB. The increase in reporting hours and cost is due to the introduction of electronic quarterly and annual progress reporting forms in ACRES for six cooperative agreement types. Recipients have always been required to submit quarterly and annual progress reports per their cooperative agreement terms and conditions, but this is the first time an electronic form option is available in ACRES. Including these forms in ACRES enables several fields to be prefilled with existing ACRES data, saving the recipient significant time compared to completing progress reporting outside of ACRES. This reporting enhancement will enable a larger number of respondents to use forms under this ICR, resulting in an overall increase in the total burden hours. Yet the electronic forms are anticipated to result in an overall decrease in burden hours per individual respondent. With respect to ACRES forms previously submitted as part of this ICR, recipients interviewed during the last few years have self-reported data entry times at half the burden hours compared to previous estimates. This can be attributed to the tremendous improvements in the ACRES database to streamline reporting requirements over the past several years. The new quarterly and annual reporting forms continue such efforts and will help ensure recipients comply with their cooperative agreement terms and conditions.

Patricia Overmeyer,
Acting Director, Office of Brownfields and Land Revitalization.

[FR Doc. 2024-24843 Filed 10-24-24; 8:45 am]

BILLING CODE 6560-50-P